DEPARTMENT OF HOMELAND SECURITY

Federal Emergency Management Agency

[Docket ID FEMA-2011-0024; OMB No. 1660-0087]

Agency Information Collection Activities: Proposed Collection; Comment Request; PrepCAST

AGENCY: Federal Emergency Management Agency, DHS.

ACTION: Notice.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning revision of the Preparedness Comprehensive Assessment Support Tool (PrepCAST) (formerly known as the National Incident Management System Compliance Assistance Support Tool (NIMSCAST)). PrepCAST is a self-assessment tool for State, territorial, Tribal, and local governments to evaluate and report on their jurisdiction's achievement with regard to the National Incident Management System (NIMS) implementation activities relating to the preparedness of the respondent to react to emergency incidents. This information collection request is being resubmitted to remove the State Preparedness Report (SPR) from the PrepCAST data collection activity. The SPR will be resubmitted as a separate collection of information for OMB approval.

DATES: Comments must be submitted on or before December 13, 2011.

ADDRESSES: To avoid duplicate submissions to the docket, please use only one of the following means to submit comments:

(1) Online. Submit comments at http://www.regulations.gov under Docket ID FEMA-2011-0024. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2011-0024 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Cathy R. Knight, Program Analyst, National Preparedness Assessment Division, 202-786-9670 for additional information. You may contact the Records Management Division for copies of the proposed collection of information at facsimile number (202) 646-3347 or e-mail address: FEMA-Information-Collections-Management@dhs.gov.

SUPPLEMENTARY INFORMATION: In 2003, Homeland Security Presidential Directive-8: National Preparedness (HSPD-8) called for establishing a system that would assess the Nation's overall preparedness and provide an annual status report of national preparedness. Three years later, the Post-Katrina Emergency Management Reform Act of 2006 (PKEMRA) included requirements to establish a “comprehensive system to assess, on an ongoing basis, the Nation's prevention capabilities and overall preparedness.”

The National Preparedness Directorate (NPD) within FEMA is charged with developing the Comprehensive Assessment System (CAS). The CAS will, as mandated by 6 U.S.C. 749, assess compliance with the national preparedness system, the National Incident Management System (NIMS), and other related plans; assess capability levels against target levels; assess resource needs to meet target levels; and assess the performance of training, exercises, and operations.

Collection of Information

Title: PrepCAST.

Type of Information Collection: Revision of a currently approved information collection.

OMB Number: 1660-0087.

Form Titles and Numbers: None.

Abstract: PrepCAST is a collection instrument that will collect preparedness information at the State, local, and Tribal jurisdiction level. It also collects National Incident Management System (NIMS) compliance information. It is being deployed to eliminate the redundant data calls on national preparedness to reduce the burden on respondents. Ultimately the collection will provide insight into the overall preparedness level of the Nation.

Affected Public: State, local, or Tribal Government.

Estimated Total Annual Burden Hours: 19,630 hours.

Estimated Cost: There is no annual reporting and recordkeeping cost associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Gary L. Anderson,
Acting Chief Administrative Officer, Mission Support Bureau, Federal Emergency Management Agency, Department of Homeland Security.

[FR Doc. 2011-26520 Filed 10-13-11; 8:45 am]

BILLING CODE 9110-46-P